SECURITIES AND EXCHANGE COMMISSION

[Release No. 34-54715A; File No. SR-NASD-2006-108]

Self-Regulatory Organizations; National Association of Securities Dealers, Inc.; Order Approving a Proposed Rule Change and Notice of Filing and Order Granting Accelerated Approval of Amendment No. 1 to a Proposed Rule Change Relating to an NASD Trade Reporting Facility Established in Conjunction With the National Stock Exchange, Inc.; Corrrection

November 14, 2006.

In FR Doc. No. E6-19167, beginning on page 66354 for Tuesday, November 14, 2006, the last sentence in part IV on page 66359 contained an error. The sentence refers incorrectly to Section 6(b)(5) of the Act rather than Section 15A(b)(6) of the Act. Accordingly, the sentence should be revised to read as follows:

“Accordingly, the Commission finds that it is consistent with Sections 15A(b)(6) and 19(b) of the Act to approve Amendment No. 1 on an accelerated basis.”

For the Commission, by the Division of Market Regulation, pursuant to delegated authority.¹
¹ 17 CFR 200.30-3(a)(12).
Nancy M. Morris,
Secretary.

[FR Doc. E6-19537 Filed 11-17-06; 8:45 am]

BILLING CODE 8011-01-P